SECURITIES AND EXCHANGE COMMISSION

[Release Nos. 33-10312; 34-80096]

Securities and Exchange Commission Evidence Summit

AGENCY: Securities and Exchange Commission.

ACTION: Notice of conference.

SUMMARY: The Securities and Exchange Commission's Office of the Investor Advocate will host a public conference, characterized as an “Evidence Summit,” to discuss, among other things, potential strategies for enhancing retail investors' understanding of key investment characteristics such as fees, risks, returns, and conflicts of interest. An objective of the conference is to marshal research from the fields of economics and cognitive sciences to help inform ways of thinking about investor behavior and identify areas for possible future research to be conducted under the auspices of an investor research initiative led by the Commission's Office of the Investor Advocate.

DATES: The conference will be held on Friday, March 10, 2017 from 9:30 a.m. until 4:30 p.m. (ET).

ADDRESSES: The conference will be held in the Auditorium, Room L-002 at the Commission's headquarters, 100 F Street NE., Washington, DC 20549. The conference will be webcast on the Commission's Web site at www.sec.gov.

FOR FURTHER INFORMATION CONTACT: Dr. Brian Scholl, Principal Economic Advisor and Senior Economist, Office of the Investor Advocate, at (202) 551-3302, Securities and Exchange Commission, 100 F Street NE., Washington, DC 20549.

SUPPLEMENTARY INFORMATION: The conference will be open to the public, except for that portion of the conference reserved for a nonpublic networking session for panelists during lunch. Persons needing special accommodations to take part because of a disability should notify the contact person listed in the section above entitled FOR FURTHER INFORMATION CONTACT.

The agenda for the conference includes: Opening remarks by Acting Chairman Michael S. Piwowar; plenary remarks by panelists Brigitte Madrian and Terry Odean; a panel discussion exploring how investors think and act; a keynote address by panelist George Lowenstein; a panel discussion addressing ways in which the Commission's disclosure regime can facilitate disclosure in the most effective manner for a wide variety of users; remarks from Commissioner Kara M. Stein; a panel discussion regarding ways in which to improve the disclosure of fees, strategies/risks, and performance; and a nonpublic networking session for panelists during lunch.

Dated: February 24, 2017.
Brent J. Fields,
Secretary.

[FR Doc. 2017-03945 Filed 2-28-17; 8:45 am]

BILLING CODE 8011-01-P